DEPARTMENT OF DEFENSE

Department of the Army

Board of Visitors, United States Military Academy (USMA)

AGENCY: Department of the Army, DoD.

ACTION: Meeting Notice. (This meeting is rescheduled from February 10, 2010)

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting will take place:

1. Name of Committee: United States Military Academy Board of Visitors.

2. Date: Tuesday, March 9, 2010.

3. Time: 12:30 p.m.-3:30 p.m. Members of the public wishing to attend the meeting will need to notify Ms. Joy A. Pasquazi no later than March 4, 2010 at joy.pasquazi@us.army.mil or (845) 938-5078 in order to have their name included on the list for Capitol Visitor Center access. Photo identification will be required in order to gain access to the meeting location. All participants are subject to security screening.

4. Location: Room SVC 209/208, Capitol Visitors Center, Washington, DC 20510.

5. Purpose of the Meeting: This is the 2010 Organizational Meeting of the USMA Board of Visitors (BoV). Members of the Board will be provided updates on Academy issues.

6. Agenda: The Academy leadership will provide the Board updates on the following: Science, Technology, Engineering & Math (STEM) Center of Excellence, Energy Costs and Initiatives, Wastewater Privatization, A-76 Commercial Activities, and Resources. The Board will discuss proposed meeting dates for the 2010 Spring Meeting, and will hold elections for the 2010 Chairperson and Vice-Chairperson.

7. Public's Accessibility to the Meeting: Pursuant to 5 U.S.C. 552b and 41 CFR 102-3.140 through 102-3.165, and the availability of space, this meeting is open to the public. Seating is on a first-come basis.

8. Committee's Designated Federal Officer or Point of Contact: Ms. Joy A. Pasquazi, (845) 938-5078, Joy.Pasquazi@us.army.mil.

SUPPLEMENTARY INFORMATION: Any member of the public is permitted to file a written statement with the USMA Board of Visitors. Written statements should be sent to the Designated Federal Officer (DFO) at: United States Military Academy, Office of the Secretary of the General Staff (MASG), 646 Swift Road, West Point, NY 10996-1905 or faxed to the Designated Federal Officer (DFO) at (845) 938-3214. Written statements must be received no later than five working days prior to the next meeting in order to provide time for member consideration. By rule, no member of the public attending open meetings will be allowed to present questions from the floor or speak to any issue under consideration by the Board.

FOR FURTHER INFORMATION CONTACT: Ms. Joy A. Pasquazi, (845) 938-5078, (Fax: 845-938-3214) or via e-mail: Joy.Pasquazi@us.army.mil.

Brenda S. Bowen,
Army Federal Register Liaison Officer.

[FR Doc. 2010-3340 Filed 2-19-10; 8:45 am]

BILLING CODE 3710-08-P